NUCLEAR REGULATORY COMMISSION

[NRC-2017-0001]

Sunshine Act Meeting Notice

DATES: January 23, 30, February 6, 13, 20, 27, 2017

PLACE: Commissioners' Conference Room, 11555 Rockville Pike, Rockville, Maryland.

STATUS: Public and Closed.

Week of January 23, 2017

Monday, January 23, 2017

10:00 a.m. Discussion of Management and Personnel Issues (Closed Ex. 2, 6 & 9)

ADDITIONAL INFORMATION: The meeting scheduled for January 23, 2017 was previously noticed as, “Discussion of Management and Personnel Issues (Closed Ex. 2 & 6).”

Week of January 30, 2017—Tentative

There are no meetings scheduled for the week of January 30, 2017.

Week of February 6, 2017—Tentative

There are no meetings scheduled for the week of February 6, 2017.

February 13, 2017—Tentative

Thursday, February 16, 2017

9:00 a.m. Briefing on Lessons Learned from the Fukushima Dai-ichi Accident (Public Meeting), (Contact: Andrew Proffitt: 301-415-1418).

This meeting will be webcast live at the Web address— http://www.nrc.gov/.

Friday, February 17, 2017

9:30 a.m. Briefing on Project Aim (Public Meeting) (Contact: Tammy Bloomer: 301-415-1785).

This meeting will be webcast live at the Web address— http://www.nrc.gov/.

Week of February 20, 2017—Tentative

There are no meetings scheduled for the week of February 20, 2017.

Week of February 27, 2017—Tentative

Wednesday, March 1, 2017

10:00 a.m. Briefing on NRC International Activities (Closed Ex. 1 & 9)

Thursday, March 2, 2017

9:00 a.m. Strategic Programmatic Overview of the Fuel Facilities and the Nuclear Materials Users Business Lines (Public Meeting) (Contact: Soly Soto; 301-415-7528)

* * * * *

The schedule for Commission meetings is subject to change on short notice. For more information or to verify the status of meetings, contact Denise McGovern at 301-415-0981 or via email at Denise.McGovern@nrc.gov.

* * * * *

The NRC Commission Meeting Schedule can be found on the Internet at: http://www.nrc.gov/public-involve/public-meetings/schedule.html.

* * * * *

The NRC provides reasonable accommodation to individuals with disabilities where appropriate. If you need a reasonable accommodation to participate in these public meetings, or need this meeting notice or the transcript or other information from the public meetings in another format (e.g., braille, large print), please notify Kimberly Meyer, NRC Disability Program Manager, at 301-287-0739, by videophone at 240-428-3217, or by email at Kimberly.Meyer-Chambers@nrc.gov. Determinations on requests for reasonable accommodation will be made on a case-by-case basis.

* * * * *

Members of the public may request to receive this information electronically. If you would like to be added to the distribution, please contact the Nuclear Regulatory Commission, Office of the Secretary, Washington, DC 20555 (301-415-1969), or email Brenda.Akstulewicz@nrc.gov or Patricia.Jimenez@nrc.gov.

Dated: January 19, 2017.
Denise L. McGovern,
Policy Coordinator, Office of the Secretary.

[FR Doc. 2017-01663 Filed 1-19-17; 4:15 pm]

BILLING CODE 7590-01-P